NATIONAL AERONAUTICS AND SPACE ADMINISTRATION

[Notice (09-082)]

NASA Advisory Council; Science Committee; Planetary Science Subcommittee; Meeting

AGENCY: National Aeronautics and Space Administration.

ACTION: Notice of meeting.

SUMMARY: The National Aeronautics and Space Administration (NASA) announces a meeting of the Planetary Science Subcommittee of the NASA Advisory Council (NAC). This Subcommittee reports to the Science Committee of the NAC. The Meeting will be held for the purpose of soliciting from the scientific community and other persons scientific and technical information relevant to program planning.

DATE: Friday, October 16, 2009, 2 p.m. to 5 p.m. Eastern Daylight Time.

ADDRESSES: This meeting will take place telephonically. Any interested person may contact Ms. Marian Norris to receive a toll free number and pass code needed to participate in this meeting by telephone.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Planetary Science Division Update.

—Mars Science Laboratory Update.

It is imperative that the meeting be held on this date to accommodate the scheduling priorities of the key participants.

P. Diane Rausch,
Advisory Committee Management Officer, National Aeronautics and Space Administration.

[FR Doc. E9-23176 Filed 9-24-09; 8:45 am]

BILLING CODE 7510-13-P